ENVIRONMENTAL PROTECTION AGENCY

[EPA-HQ-OPP-2010-0452; FRL-8842-6]

Product Cancellation Order for Certain Pesticide Registrations

AGENCY: Environmental Protection Agency (EPA).

ACTION: Notice.

SUMMARY: This notice announces EPA's order for the cancellation of the product, Biter Fighter, pursuant to section 6(f)(1) of the Federal Insecticide, Fungicide, and Rodenticide Act (FIFRA), as amended. The cancellation was voluntarily requested by the registrant, Ticks and Mosquitoes, LLC., and accepted by EPA. This cancellation order follows a June 9, 2010 Federal Register Notice of Receipt of Request from the registrant to voluntarily cancel this product registration. In the June 9, 2010 notice, EPA indicated that it would issue an order implementing the cancellation, unless the Agency received substantive comments within the 30 day comment period that would merit its further review of this request, or unless the registrant withdrew his request. The Agency did not receive any comments on the notice. Further, the registrant did not withdraw his request. Accordingly, EPA hereby issues in this notice a cancellation order granting the requested cancellation. Any distribution, sale, or use of the product subject to this cancellation order is permitted only in accordance with the terms of this order, including any existing stocks provisions.

DATES: The cancellation is effective September 3, 2010.

FOR FURTHER INFORMATION CONTACT: Leonard Cole, Biopesticides and Pollution Prevention Division (7511P), Office of Pesticide Programs, Environmental Protection Agency, 1200 Pennsylvania Ave., NW., Washington, DC 20460-0001; telephone number: (703) 305-5412; fax number: (703) 305-0118; e-mail address: cole.leonard@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2010-0452. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This notice announces the cancellation of the product, Biter Fighter, EPA Registration Number 75771-1, registered under FIFRA section 3. Cancellation of the product, Biter Figher, containing the chemicals calcium lactate and urea, was requested by the registrant, Ticks or Mosquitoes, LLC , 905 S. Kings Highway, Sikeston, MO 63801.

III. Summary of Public Comments Received and Agency Response to Comments

During the public comment period provided, EPA received no comments in response to the June 9, 2010 Federal Register notice announcing the Agency's receipt of the request for voluntary cancellation of this product.

IV. Cancellation Order

Pursuant to FIFRA section 6(f), EPA hereby approves the requested cancellation of the registration of the product, Biter Fighter, EPA Registration Number 75771-1. Accordingly, the Agency hereby orders that the product registration is canceled. The effective date of the cancellation that is the subject of this notice is September 3, 2010. Any distribution, sale, or use of existing stocks of the product, Biter Fighter, EPA Registration Number 75771-1, in a manner inconsistent with any of the provisions for disposition of existing stocks set forth in Unit VI. will be a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt of requests to voluntarily cancel the registration of Biter Fighter was published for comment in the Federal Register issue of June 9, 2010 (75 FR 32766) (FRL-8828-1). The comment period closed on July 9, 2010.

VI. Provisions for Disposition of Existing Stocks

Existing stocks are those stocks of registered pesticide products which are currently in the United States and which were packaged, labeled, and released for shipment prior to the effective date of the cancellation action. The existing stocks provisions for the product subject to this order are as follows.

The registrant may continue to sell and distribute existing stocks of Biter Fighter, EPA Registration Number 75771-1, until September 6, 2011, which is 1 year after the publication of this Cancellation Order in the Federal Register. Thereafter, the registrant is prohibited from selling or distributing Biter Fighter, except for export in accordance with FIFRA section 17, or proper disposal. Persons other than the registrant may sell, distribute, or use existing stocks of Biter Fighter until existing stocks are exhausted, provided that such sale, distribution, or use is consistent with the terms of the previously approved labeling on, or that accompanied, the canceled product.

List of Subjects

Environmental protection, Pesticides and pests.

Dated: August 23, 2010.
W. Michael McDavit.
Acting Director, Biopesticides and Pollution Prevention Division, Office of Pesticide Programs.

[FR Doc. 2010-21952 Filed 9-2-10; 8:45 am]

BILLING CODE 6560-50-S